DEPARTMENT OF TRANSPORTATION

Surface Transportation Board

[STB Docket No. FD 35756]

Hartwell Railroad Company—Construction of Connecting Track Exemption—in Elbert County, GA

AGENCY: Surface Transportation Board, DOT.

ACTION: Notice of Availability of the Environmental Assessment and Request for Comments.

SUMMARY: The Surface Transportation Board's (Board) Office of Environmental Analysis (OEA) has prepared an Environmental Assessment (EA) in response to a verified notice of exemption filed on May 27, 2014 by the Hartwell Railroad Company (Hartwell). Hartwell seeks to construct approximately 1,360 feet of connecting railroad track, pursuant to 49 CFR 1150.36. The proposal would allow Hartwell's existing Toccoa-Elberton Line to connect with CSX Transportation's, Inc. (CSXT) existing Abbeville Subdivision in Elbert County, GA. The proposal would re-establish a prior rail connection formerly owned by the Norfolk Southern Railway Company (NSR) and occur on land within existing railroad rights-of-way either owned by Hartwell or CSXT. The prior connection, which allowed Hartwell to indirectly interchange its rail traffic with CSXT, was formally abandoned by NSR in 1995. Since then, Hartwell has been required to interchange its traffic solely with NSR at the other end of its line (some 40-miles northwest of the Proposed Action) in order to access the mainlines of CSXT approximately 60 miles to the northeast and about 37 miles to the southwest.

The proposed rail line construction would permit Hartwell to reach points served by CSXT that NSR does not serve and eliminate the inefficiency that would otherwise involve three carriers (Hartwell-NSR-CSXT) instead of two (Hartwell-CSXT) to reach points served solely by CSXT. Hartwell expects to handle up to one train per day in each direction over the new connection with CSXT.

The EA identifies the natural and man-made resources in the area of the proposed rail line and analyzes the potential impacts of the proposal on these resources. Based on the information provided from all sources to date and its independent analysis, OEA preliminarily concludes that construction of the proposed rail line connection would have no significant environmental impacts if the Board imposes and Hartwell implements the recommended mitigation measures set forth in the EA.

Copies of the EA have been served on all interested parties and will be made available to additional parties upon request. The entire EA is also available on the Board's Web site (www.stb.dot.gov) by clicking on the “Decisions & Notices” button that appears in the drop down menu for “E-LIBRARY,” and searching by Service Date (July 1, 2014) or Docket Number (FD 35756). OEA will consider all comments received when making its final environmental recommendations to the Board. The Board will then consider OEA's final recommendations and the complete environmental record in making its final decision in this proceeding.

DATES: The EA is available for public review and comment. Comments must be postmarked by July 31, 2014.

ADDRESSES: Comments (an original and one copy) should be sent in writing to: Surface Transportation Board, Case Control Unit, 395 E Street SW., Suite 1015, Washington, DC 20423. The lower left hand corner of the envelope should be marked: Attention: Ms. Diana Wood, Environmental Comments. Comments on the EA may also be filed electronically on the Board's Web site, www.stb.dot.gov, by clicking on the “E-FILING” link.

FOR FURTHER INFORMATION CONTACT: Diana Wood by mail at the address above, by telephone at 202-245-0302 [FRS for the hearing impaired (1-800-877-8339)], or by email at woodd@stb.dot.gov.

By the Board, Victoria Rutson, Director, Office of Environmental Analysis.
Jeffrey Herzig,
Clearance Clerk.

[FR Doc. 2014-15107 Filed 6-30-14; 8:45 am]

BILLING CODE 4915-01-P